DEPARTMENT OF THE INTERIOR

National Park Service

[N6657; NPS-WASO-NAGPRA-NPS0041394; PPWOCRADN0-PCU00RP14.R50000]

Notice of Inventory Completion: California Department of Transportation, San Diego, CA

AGENCY: National Park Service, Interior.

ACTION: Notice.

SUMMARY: In accordance with the Native American Graves Protection and Repatriation Act (NAGPRA), the California Department of Transportation (Caltrans) has completed an inventory of human remains and associated funerary objects and has determined that there is a cultural affiliation between the human remains and associated funerary objects and Indian Tribes or Native Hawaiian organizations in this notice.

DATES: Repatriation of the human remains and associated funerary objects in this notice may occur on or after January 16, 2026.

ADDRESSES: Send written requests for repatriation of the human remains and associated funerary objects in this notice to Natalia Galeana, California Department of Transportation District 11, 4050 Taylor Street, San Diego, CA 92110, email natalia.galeana@dot.ca.gov.

SUPPLEMENTARY INFORMATION: This notice is published as part of the National Park Service's administrative responsibilities under NAGPRA. The determinations in this notice are the sole responsibility of Caltrans, and additional information on the determinations in this notice, including the results of consultation, can be found in its inventory or related records. The National Park Service is not responsible for the determinations in this notice.

Abstract of Information Available

Human remains representing, at least, two individuals have been identified. Associated funerary objects have been identified totaling of 25 lots representing two lots of shell (worked and unworked), two lots of ground stone, two lots of chipped stone, two lots of non-human faunal remains worked, one lot of non-human faunal remains worked, two lots of vegetal samples, one lot of mineral samples, two lots of soil samples, one lot of charcoal samples, two lots of unworked stone, one lot of fire affected rock, two lots of ceramics, two lots of historic items and two lots of post-contact items. This shall also include any objects currently listed as missing but found at a later date; or uncatalogued objects found at a later date belonging to these collections.

One ancestor and 15 lots consisting of 3,865 of cultural items were removed from CA-SDI-777, which is located in Cottonwood Creek, within Pine Valley, San Diego County, California. The collection is a result of a 1997 excavation report for a highway widening project and was accessioned at SDSU under Caltrans control as SDSU-0390. Catalog entries included in this notice have been identified as missing, and Caltrans and San Diego State University (SDSU) continue to look for them.

One ancestor and 10 lots consisting of 11,000 of cultural items were removed from CA-SDI-4513, which is located between Interstate 5 and Sorrento Valley Road in, San Diego County, California. The collection is a result of a 1986 excavation report for a highway project and was accessioned at SDSU under Caltrans control as SDSU-0318. Catalog entries included in this notice have been identified as missing, and Caltrans and San Diego State University (SDSU) continue to look for them.

There are no known/documented potentially hazardous substances used to treat any of the cultural items.

Cultural Affiliation

Based on the information available and the results of consultation, cultural affiliation is clearly identified by the information available about the human remains and associated funerary objects described in this notice.

Determinations

The Caltrans has determined that:

• The human remains described in this notice represent the physical remains of two individuals of Native American ancestry.

• The 25 lots described in this notice are reasonably believed to have been placed intentionally with or near individual human remains at the time of death or later as part of the death rite or ceremony.

• There is a connection between the human remains and associated funerary objects described in this notice and the Capitan Grande Band of Diegueno Mission Indians of California (Barona Group of Capitan Grande Band of Mission Indians of the Barona Reservation, California; Viejas (Baron Long) Group of Capitan Grande Band of Mission Indians of the Viejas Reservation, California; Ewiiaapaayp Band of Kumeyaay Indians, California; Iipay Nation of Santa Ysabel, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation.

Requests for Repatriation

Written requests for repatriation of the human remains and associated funerary objects in this notice must be sent to the authorized representative identified in this notice under FOR FURTHER INFORMATION CONTACT. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 16, 2026. If competing requests for repatriation are received, Caltrans must determine the most appropriate requestor prior to repatriation. Requests for joint repatriation of the human remains and associated funerary objects are considered a single request and not competing requests. Caltrans is responsible for sending a copy of this notice to the Indian Tribes and Native Hawaiian organizations identified in this notice and any other consulting parties.

Authority: Native American Graves Protection and Repatriation Act, 25 U.S.C. 3003, and the implementing regulations, 43 CFR 10.10.

Dated: November 21, 2025.
Melanie O'Brien,
Manager, National NAGPRA Program.

[FR Doc. 2025-23002 Filed 12-16-25; 8:45 am]

BILLING CODE 4312-52-P